DEPARTMENT OF DEFENSE

Department of the Army

[Docket ID: USA-2019-HQ-0020]

Submission for OMB Review; Comment Request

AGENCY: Army & Air Force Exchange Service (Exchange), DoD.

ACTION: 30-Day information collection notice.

SUMMARY: The Department of Defense has submitted to OMB for clearance the following proposal for collection of information under the provisions of the Paperwork Reduction Act.

DATES: Consideration will be given to all comments received by September 30, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: Exchange Accident/Incident Reports; Exchange Form 3900-017, “Statements”; OMB Control 0702-0138.

Type of Request: Extension.

Number of Respondents: 13,914.

Responses per Respondent: 1.

Annual Responses: 13,914.

Average Burden per Response: 60 minutes.

Annual Burden Hours: 13,914.

Needs and Uses: The information collection requirement is necessary to record incidents such as accidents, mishaps, fires, thefts or any issue involving government property. This collection ensures the Exchange has the necessary information regarding injuries and illnesses in order to administer and follow-up on medical treatment and payment of claims. The collection also assists the Exchange in recouping damages, correcting deficiencies, initiating appropriate disciplinary action(s), filing insurance and Workers' Compensation required documents.

Affected Public: Individuals or Households, Business or other for profit; Not-for-profit institutions, and Federal Government.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: August 26, 2019.
Shelly E. Finke,
Alternate OSD Federal Register Liaison Officer, Department of Defense.

[FR Doc. 2019-18689 Filed 8-28-19; 8:45 am]

BILLING CODE 5001-06-P